DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 00-011.

Applicant: Johns Hopkins University, School of Medicine, Microscope Facility, 725 N. Wolfe Street, Physiology Building, Room G-4, Baltimore, MD 21205.

Instrument: Electron microscope, Model H-7600-I.

Manufacturer: Hitachi High-Technologies Corporation, Japan.

Intended Use: The instrument is intended to be used to investigate:

(1) The mechanical properties of intermediate filaments composed of keratin;

(2) The structure and replication mechanism of kinoplast DNA;

(3) The basis of bacterial gliding motility by means of slime expulsion in certain prokaryotic cells;

(4) The mechanism of membrane protein delivery to the plasma membrane in mammalian cells;

(5) Identification of novel genes that play critical roles in the development of the retina.

Application accepted by Commissioner of Customs: February 25, 2005.

Docket Number: 05-012.

Applicant: University of Chicago, 933 East 56th Street, Chicago, IL 60637.

Instrument: Pattern Selection Trigger.

Manufacturer: Hytec Electronics, Ltd., United Kingdom.

Intended Use: The instrument is intended to be used, in conjunction with a digital computer system, for a telescope to study high-energy gamma-rays of astronomical origin.

Application accepted by Commissioner of Customs: February 28, 2005.

Docket Number: 05-013.

Applicant: National Institute of Standards and Technology.

Instrument: Focused Ion Beam Field Emission Scanning Electron Microscope, Model Nova 600 NanoLab.

Manufacturer: FEI Company, The Netherlands.

Intended Use: The instrument is intended to allow complex, chemically heterogeneous materials to be both synthesized using materials deposition from gas injection systems, and to be sectioned and ion milled using a Gallium ion beam for removal of material for study of the gross morphology, crystal structure and microstructure, chemical composition, electronic structure, and transport properties of materials to be measured on nanometer length scales. The phenomena of electron scattering, x-ray generation, beam transport, absorption and internal fluoresence will be studied to perform quantitative analyses of nanoscale materials for numerous ongoing research projects.

Application accepted by Commissioner of Customs: March 2, 2005.

Gerald A. Zerdy,
Program Manager, Statutory Import Programs Staff.

[FR Doc. E5-1172 Filed 3-16-05; 8:45 am]

BILLING CODE 3510-DS-P